DEPARTMENT OF LABOR

Employment and Training Administration

[TA-W-63,295]

Visteon Corporation Regional Assembly & Manufacturing LLC; Fuel Delivery—Climate Group Division Concordia, MO; Notice of Affirmative Determination Regarding Application for Reconsideration

By application dated August 12, 2008, United Automobile, Aerospace & Agricultural Implement Workers of America, International Union, Local 710 requested administrative reconsideration of the negative determination regarding workers' eligibility to apply for Trade Adjustment Assistance (TAA) and Alternative Trade Adjustment Assistance (ATAA) applicable to workers and former workers of the subject firm. The determination was issued on July 23, 2008. The Notice of determination was published in the Federal Register on August 12, 2008 (73 FR 46924).

The determination was based on the Department's findings that imports of automotive fuel tanks did not contribute importantly to worker separations at the subject firm and no shift of production to a foreign source occurred.

In the request for reconsideration the petitioner provided additional information regarding the subject firm's customers indicating some customers have been certified for TAA and requested the Department of Labor investigate for secondary impact as a supplier of a component to a TAA certified firm.

The Department has carefully reviewed the request for reconsideration and the existing record and has determined that the Department will conduct further investigation to determine if the workers meet the eligibility requirements of the Trade Act as secondary impact workers.

Conclusion

After careful review of the application, I conclude that the claim is of sufficient weight to justify reconsideration of the U.S. Department of Labor's prior decision. The application is, therefore, granted.

Signed at Washington, DC, this 2nd day of September 2008.
Elliott S. Kushner,
Certifying Officer, Division of Trade Adjustment Assistance.

[FR Doc. E8-21843 Filed 9-17-08; 8:45 am]

BILLING CODE 4510-FN-P